COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee has received proposals to add to the Procurement List commodities and services to be furnished by nonprofit agencies employing persons who are blind or have other severe disabilities.

DATES: Comments must be received on or before September 25, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot, (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, all entities of the Federal Government (except as otherwise indicated) will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information.

The following commodities and services have been proposed for addition to Procurement List for production by the nonprofit agencies listed:

Commodities

Bar Assembly, Door

3920-02-000-1915

NPA: Rauch Rehabilitation & Developmental Services, Inc., New Albany, Indiana

CRT and Keyboard Cleaner

7045-01-247-6020

NPA: North Central Sight Services, Inc., Williamsport, Pennsylvania

Cot, Folding

7105-00-935-0422

(12.5% of the Government's Requirement)

NPA: CETC Employment Opportunities, Inc., New Bern, North Carolina

Vegetable Oil

8945-00-NSH-0001

(Minimum of 15% of the Government's Requirement or a monthly amount not to exceed 3,500 Metric Tons)

NPA: Advocacy and Resource Corp. (ARC), Cookeville, Tennessee

Services

Janitorial/Custodial

Backbay National Wildlife Refuge, 4005 Sandpiper Road, Virginia Beach, Virginia

NPA: Community Alternatives, Inc., Virginia Beach, Virginia

Mailroom Operation/Messenger Services

U.S. Peace Corps Headquarters, 1111 20th Street, NW, Washington, DC

NPA: Didlake, Inc., Manassas, Virginia

Microfilming Services

Commodities Future Trading Commission, 1155 21st Street, Washington, DC

NPA: Developmental Services Group, Inc., Columbia, Maryland

Rita L. Wells,
Deputy Executive Director.

[FR Doc. 00-21810 Filed 8-24-00; 8:45 am]

BILLING CODE 6353-01-P